ENVIRONMENTAL PROTECTION AGENCY

[ER-FRL-6674-6]

Environmental Impacts Statements; Notice of Availability

Responsible Agency: Office of Federal Activities, General Information (202) 564-7167 or http://www.epa.gov/compliance/nepa/.

Weekly receipt of Environmental Impact Statements

Filed 4/17/2006 through 4/21/2006

Pursuant to 40 CFR 1506.9.

EIS No. 20060148, Final EIS, NRC, NC, Generic—Brunswick Stream Electric Plant, Units 1 and 2 (TAC Nos. MC4641 and MC4642) License Renewal of Nuclear Plants, Supplement 25 to NUREG-1437, Brunswick County, NC, Wait Period Ends: May 30, 2006, Contact: Alicia Williamson 301-415-1878.

EIS No. 20060149, Draft EIS, AFS, WA, School Fire Salvage Recovery Project, Salvage Harvest Fire-Killed (dead) and Fire-Damaged (dying) Trees, Implementation, Pomeroy Ranger District, Umatilla National Forest, Columbia and Garfield Counties, WA, Comment Period Ends: 6/12/2006, Contact: Dave Herr 541-278-3869.

EIS No. 20060150, Draft EIS, BLM, CA, Alturas Field Office Project, Resource Management Plan, Implementation, Lassen, Modoc, Shasta and Siskiyou Counties, CA, Comment Period Ends: 7/27/2006, Contact: Sue Noggles 530-252-5345.

EIS No. 20060151, Draft EIS, BLM, CA, Eagle Lake Field Office Project, Resource Management Plan, Implementation, Lassen, Plumas, Sierra Counties, CA and Washoe County, NV, Comment Period Ends: 7/27/2006, Contact: Sue Noggles 530-252-5345.

EIS No. 20060152, Draft EIS, BLM, CA, Surprise Field Office Project, Resource Management Plan, Implementation, Cedarville; Modoc and Lassen, CA and Washoe and Humboldt Counties, NV, Comment Period Ends: 7/27/2006, Contact: Sue Noggles 530-252-5345.

EIS No. 20060153, Final EIS, FHW, VA, Capital Beltway Study, Transportation Improvement to the 14-Mile Section of Capital Beltway (I-495) between the I-95/I-395/I-495 Interchange and the American Legion Bridge, Fairfax County, VA, Wait Period Ends: 5/30/2006, Contact: Edward S. Sundra 804-775-3338.

EIS No. 20060154, Draft EIS, NPS, FL, Castillo de San Marcos National Monument, General Management Plan, Implementation, City of St. Augustine, St. Johns County, FL, Comment Period Ends: 6/27/2006, Contact: David Libman 404-562-3124, Ext 685.

EIS No. 20060155, Draft EIS, NPS, CO, Great Sand Dunes National and Preserve. General Management Plan/Wilderness Study, Implementation, Alamos and Saguache Counties, CO, Comment Period Ends: 6/27/2006, Contact: Suzy Statzman 303-987-6671.

EIS No. 20060156, Final EIS, COE, MT, Upper Columbia Alternative Flood Control and Fish Operations, Implementation, Libby and Hungry Horse Dams, Columbia River Basin, MT, Wait Period Ends: 5/30/2006, Contact: Evan Lewis 206-764-6922.

EIS No. 20060157, Final EIS, IBR, 00, Navajo Reservoir Operations, Proposed Operational Changes to Navajo Dam and Reservoir, Endangered Species Act (ESA), Related Flow Recommendations, Navajo Unit-San Juan River, NM, CO and UT, Wait Period Ends: May 30, 2006, Contact: Pat Page 970-385-6560.

EIS No. 20060158, Draft EIS, SFW, AL, Gulf Highlands Condominium and Beach Club West Residential/Recreational Condominium Projects, Application for Two Incidental Take Permits for the Construction and Occupancy, Fort Morgan Peninsula, Baldwin County, AL, Comment Period Ends: July 26, 2006, Contact: Aaron Valenta 404-679-4144.

Amended Notices

EIS No. 20060128, Final EIS, FHW, UT, Brown Park Road Project, Reconstruction (Paving) and Partial Re-Alignment from Red Creek to Colorado State Line, Diamond Mountain Resource Management Plan Amendment (BLM), U.S. Army COE Section 404 Permit, Daggett County, UT, Wait Period Ends: 5/15/2006, Contact: Gregory Punske 801-963-0182. Revision to FR Notice published on 4/14/2006: Correction to Contact Person Telephone Number.

EIS No. 20060146, Draft EIS, UAF, HI, Hickam Air Force Base and Bellows Air Force Station, 15th Airlift Wing, Housing Privatization Phase II, To Transfer the Remaining Housing Units, and Associated Infrastructure to Selected Offeror, O'ahu, HI, Comment Period Ends: 6/7/2006, Contact: Ron Lanier 808-449-1584 x238. Revision to FR Notice published 4/21/2006: Correction to Comment Period from 6/5/2006 to 6/7/2006.

Dated: April 25, 2006.
Robert W. Hargrove,
Director, NEPA Compliance Division, Office of Federal Activities.

[FR Doc. E6-6429 Filed 4-27-06; 8:45 am]

BILLING CODE 6560-50-P